DEPARTMENT OF ENERGY

Federal Energy Regulatory Commission

[Project No. 3063-029]

Blackstone Hydro Associates; Notice of Effectiveness of Withdrawal of Operations Compliance Monitoring Plan

On August 4, 2023 and supplemented on August 21, 2023, Blackstone Hydro Associates (licensee), filed an Operation Compliance Monitoring Plan for the Central Falls Hydroelectric Project No. 3063. On April 9, 2024, the licensee filed a request to withdraw its Operation Compliance Monitoring Plan.

No motion in opposition to the request for withdrawal has been filed, and the Commission has taken no action to disallow the withdrawal. Pursuant to Rule 216(b) of the Commission's Rules of Practice and Procedure,¹ the withdrawal of the application became effective on April 24, 2024, and this proceeding is hereby terminated.

¹ 18 CFR 385.216(b) (2023).

Dated: May 2, 2024.
Debbie-Anne A. Reese,
Acting Secretary.

[FR Doc. 2024-10037 Filed 5-7-24; 8:45 am]

BILLING CODE 6717-01-P